ENVIRONMENTAL PROTECTION AGENCY

[FRL-6582-7]

Agency Information Collection Activities: Proposed Collection; Comment Request; Information Collection Request for the National Listing of Advisories

AGENCY: Environmental Protection Agency (EPA).

ACTION: Notice.

SUMMARY: In compliance with the Paperwork Reduction Act (44 U.S.C. 3501 et seq.), this document announces that EPA is planning to submit the following new Information Collection Request (ICR) to the Office of Management and Budget (OMB): Information Collection Request for the National Listing of Advisories (EPA ICR Number 1959.01). Before submitting the ICR to OMB for review and approval, EPA is soliciting comments on specific aspects of the proposed information collection as described below.

DATES: Comments must be submitted on or before June 20, 2000.

ADDRESSES: Jeffrey Bigler, U.S. Environmental Protection Agency, Office of Science and Technology, 401 M Street SW., Maildrop 4305, Washington, DC 20460, (202) 260-1305, by e-mail at bigler.jeff@epa.gov, or download a copy off the Internet at http://www.epa.gov/icr and refer to EPA ICR No. 1959.01.

FOR FURTHER INFORMATION CONTACT: Jeffrey Bigler at EPA, (202) 260-1305, by e-mail at bigler.jeff@epa.gov.

SUPPLEMENTARY INFORMATION:

Affected Entities

Entities potentially affected by this action are those which issue fish consumption advisories within their state, territory, or tribal jurisdictions.

Title

Information Collection Request for the National Listing of Advisories (EPA ICR Number 1959.01). This is a request for a new collection.

Abstract

Release of chemical contaminants into our Nation's waters from industrial pollution, sprawling urbanization, and introduction of new pesticides in agriculture poses potentially serious public health problems. Recent studies have confirmed that adverse health effects can result from consumption of chemically-contaminated fish from contaminated waters. These adverse affects have been one of EPA's long standing concerns. They are also directly related to such Clean Water Act responsibilities as water quality standards, surface water quality, and to the Agency's effort to ensure that the waters of the United States are both “fishable” and “swimmable.” Based on results from the 1998 National Listing of Fish and Wildlife Advisories (NLFWA) database, fish consumption advisories have been issued by 47 states and from 100 to 200 new advisories are issued every year nationwide.

EPA believes there is a need to maintain and improve the existing quality and availability of public information concerning fish advisories, which includes but is not limited to monitoring and risk assessment activities and the issuance of advisories. Primary responsibility for these activities lies with each state, territory, or tribal jurisdiction, however, several agencies often share responsibilities for these activities. Consequently, EPA's Office of Water will conduct an annual fish advisory survey which will be sent to environmental and health officials from state, territorial, and tribal agencies specifically responsible for the issuance of fish advisories. This survey will collect information (electronically via the Internet and on paper) on the location of advisories and agencies and persons responsible for maintaining and issuing advisories for lakes and rivers, and for estuarine and coastal marine waterbodies. Responses to the questionnaire (either on paper or electronically via the Internet) are needed to assess public health risks of consuming chemically-contaminated fish, and to make this information available to the public.

The EPA will use the information to update existing advisory information in the EPA's National Listing of Fish and Wildlife Advisories (NLFWA) electronic database which has archived fish advisory data since 1994. The results of the nationwide data collection effort are shared with the states, territories, tribes, other federal agencies and the general public through access to the NLFWA database which can be queried for specific information and through distribution of the annual Fish Advisory Fact Sheet via the Internet. Results of this and past surveys will be available at EPA's NLFWA web site (http://www.epa.gov/OST/fish/). Information from these surveys has stimulated nationwide dialogue on fish consumption advisories involving agencies and the public. This information is being used to identify and clarify issues that will lead to the continued development of national guidance to assist states on sampling and analysis, risk assessment procedures, risk management practices, and risk communication procedures that will further protect human health.

The purpose of the new collection is two-fold. First, the survey is needed to continue to collect and update quantitative information on the number of advisories issued by states, territories, and tribes annually, including detailed information on species sampled, chemical contaminants involved, waterbodies under advisory (including freshwater, estuarine, and marine waterbodies), target populations to which the advisory refers (e.g., pregnant women, nursing mothers, and young children), geographic location of each advisory, and tissue residue data supporting the states' advisories. In addition, the expanded questionnaire portion of the survey will provide information on monitoring procedures used to collect and analyze fish samples, risk assessment methodologies used to evaluate fish tissue residue data and issue advisories, and risk communication procedures used to communicate the human health risks of consuming chemically-contaminated species. From this information, EPA can determine how to most effectively provide assistance to state, territorial, and tribal fish advisory programs to improve effectiveness among jurisdictions through the use of appropriate procedures for sampling, chemical analysis, risk assessment, and risk communication. Completion of this survey is voluntary and the information requested is part of the state public record associated with issuing the advisories. Over the last few years, the states have requested guidance from EPA in their fish advisory programs and a more comprehensive questionnaire will provide the states with the opportunity to identify those advisory areas for which they most need EPA assistance.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement:

The annual public reporting and record keeping burden for this collection of information is estimated to average 36.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, territory, and tribal environmental and health agencies (50 states, District of Columbia, 5 territories, and 36 tribal agencies).

Estimated Number of Respondents: 92.

Frequency of Response: Annually.

Estimated Total Annual Hours Burden: 3,358 hours.

Estimated Total Annualized Cost Burden (non-labor costs): $552.00.

Geoffrey H. Grubbs,
Director, Office of Science and Technology.

[FR Doc. 00-10035 Filed 4-20-00; 8:45 am]

BILLING CODE 6560-50-P